DEPARTMENT OF STATE

[Public Notice 4352]

Shipping Coordinating Committee; Notice of Meeting

The Shipping Coordinating Committee (SHC), Subcommittee on the Prevention of Marine Pollution, will conduct an open meeting at 9:30 a.m. on Tuesday, July 8, 2003, in Room 2415 of the United States Coast Guard Headquarters Building, 2100 2nd Street, SW., Washington, DC 20593-0001. The primary purpose of the meeting is to prepare for the 49th Session of the International Maritime Organization (IMO) Marine Environment Protection Committee (MEPC) to be held at IMO Headquarters in London, England from July 14 to 18, 2003.

The primary matters to be considered include:

• Harmful aquatic organisms in ballast water;

• Recycling of ships;

• Prevention of air pollution from ships;

• Consideration and adoption of amendments to mandatory instruments;

• Harmful anti-fouling systems for ships;

• Implementation of the International Convention on Oil Pollution Preparedness, Response and Co-operation (OPRC) Convention and the OPRC-Hazardous Noxious Substance Protocol and relevant conference resolutions;

• Identification and protection of Special Areas and Particular Sensitive Sea Areas;

• Inadequacy of reception facilities;

• Promotion of implementation and enforcement of the International Convention on the Prevention of Pollution from Ships, 1973, as modified by the Protocol of 1978 relating thereto (MARPOL 73/78) and related instruments;

• Technical co-operation program;

• Interpretation and amendments of MARPOL 73/78 and related instruments;

• Future role of formal safety assessment and human element issues; and

• Work program of the Committee and subsidiary bodies.

Please note that hard copies of documents associated with MEPC 49 will not be available at this meeting. Documents will be available in Adobe Acrobat format on CD-ROM. To requests documents please write to the address provided below, or request documents via the following Internet link: http://www.uscg.mil/hq/g-m/mso/mso4/mepc.html.

Members of the public may attend this meeting up to the seating capacity of the room. Interested persons may seek information by writing to Ensign Mary Weston, Commandant (G-MSO-4), U.S. Coast Guard Headquarters, 2100 Second Street, SW., Room 1600, Washington, DC 20593-0001 or by calling (202) 267-2079.

Dated: June 9, 2003.
Frederick J. Kenney,
Executive Secretary, Shipping Coordinating Committee, Department of State.

[FR Doc. 03-16081 Filed 6-24-03; 8:45 am]

BILLING CODE 4710-D7-P